DEPARTMENT OF HEALTH AND HUMAN SERVICES

Centers for Disease Control and Prevention

[30Day-21-20PA]

Agency Forms Undergoing Paperwork Reduction Act Review

In accordance with the Paperwork Reduction Act of 1995, the Centers for Disease Control and Prevention (CDC) has submitted the information collection request titled “DOP Cross-Site Program Implementation Evaluation of Overdose Data to Action Program” to the Office of Management and Budget (OMB)for review and approval. CDC previously published a “Proposed Data Collection Submitted for Public Comment and Recommendations” notice on 06/15/2020 to obtain comments from the public and affected agencies. CDC did not receive public comments related to the previous notice. This notice serves to allow an additional 30 days for public and affected agency comments.

CDC will accept all comments for this proposed information collection project. The Office of Management and Budget is particularly interested in comments that:

(a) Evaluate whether the proposed collection of information is necessary for the proper performance of the functions of the agency, including whether the information will have practical utility;

(b) Evaluate the accuracy of the agencie's estimate of the burden of the proposed collection of information, including the validity of the methodology and assumptions used;

(c) Enhance the quality, utility, and clarity of the information to be collected;

(d) Minimize the burden of the collection of information on those who are to respond, including, through the use of appropriate automated, electronic, mechanical, or other technological collection techniques or other forms of information technology, e.g., permitting electronic submission of responses; and

(e) Assess information collection costs.

To request additional information on the proposed project or to obtain a copy of the information collection plan and instruments, call (404) 639-7570. Comments and recommendations for the proposed information collection should be sent within 30 days of publication of this notice to www.reginfo.gov/public/do/PRAMain. Find this particular information collection by selecting “Currently under 30-day Review—Open for Public Comments” or by using the search function. Direct written comments and/or suggestions regarding the items contained in this notice to the Attention: CDC Desk Officer, Office of Management and Budget, 725 17th Street NW, Washington, DC 20503 or by fax to (202) 395-5806. Provide written comments within 30 days of notice publication.

Proposed Project

DOP Cross-Site Program Implementation Evaluation of Overdose Data to Action Program—New—National Center for Injury Prevention and Control (NCIPC), Centers for Disease Control and Prevention (CDC).

Background and Brief Description

The Overdose Data to Action (OD2A) program is a comprehensive, national overdose prevention program developed by CDC. The purpose of the OD2A program is to support funded jurisdictions in obtaining high quality, complete, and timely data on opioid prescribing and overdoses, and to use those data to inform prevention and response efforts. OD2A funds a total of 66 recipients (state and local health departments) to implement surveillance and prevention strategies, through a three-year cooperative agreement.

This information collection review is focused on the tools needed to evaluate the unique OD2A program. This information collection includes key informant interviews (KII) and focus groups (FG). The information collection is unique and will be the first evaluation of the OD2A program. There are no other efforts that CDC knows of to obtain program information required to demonstrate impact and improve implementation of OD2A. The purpose of this information collection is to assess the implementation and the effectiveness of the OD2A program activities and identify the conditions under which these activities are most effective, and for whom. The implementation evaluation will identify the barriers and facilitators associated with deploying several prevention activities targeting specific populations within specific jurisdictions.

Data collected from this evaluation will be used by the CDC to obtain valid information regarding how recipients operationalized and implemented their chosen prevention activities, to assess the impact of OD2A and different components of OD2A on the trajectory of the opioid epidemic, and through the provision of these data back to the recipients, to improve the implementation and impact of further OD2A prevention activities. There are no costs to the respondents other than their time. The total estimated annualized burden hours are 574.

Estimated Annualized Burden Hours
Type of respondent | Form name | Number of respondents | Number of responses per respondent | Average burden per response (hours )
Jurisdictions implementing OD2A program | Key Informant Interview Guides | 181 | 1 | 1
| Focus Group Guides | 165 | 1 | 1.5
| Permission to be Recorded | 346 | 1 | 5/60
| Interview Recruitment Email | 181 | 1 | 5/60
| Focus Group Recruitment Email | 165 | 1 | 5/60
| Interview Recruitment Reminder Email | 181 | 1 | 5/60
| Focus Group Recruitment Reminder Email | 165 | 1 | 5/60
| Post-information Collection Follow up Email | 346 | 1 | 5/60
| Program Manager Focus Group Recruitment Request Email | 165 | 1 | 5/60
| Program Manager Interview Recruitment Request Email | 181 | 1 | 5/60

Jeffrey M. Zirger,
Lead, Information Collection Review Office, Office of Scientific Integrity, Office of Science, Centers for Disease Control and Prevention.

[FR Doc. 2020-24473 Filed 11-3-20; 8:45 am]

BILLING CODE 4163-18-P